Proclamation 9386 of December 31, 2015

National Slavery and Human Trafficking Prevention Month, 2016

By the President of the United States of America

A Proclamation

One hundred and fifty years ago, our Nation codified the fundamental truth that slavery is an affront to human dignity. Still, the bitter fact remains that millions of men, women, and children around the globe, including here at home, are subject to modern-day slavery: the cruel, inhumane practice of human trafficking. This month, we rededicate ourselves to assisting victims of human trafficking and to combating it in all its forms.

Human trafficking occurs in countries throughout the world and in communities across our Nation. Children are forced to fight as soldiers, young people are coerced into prostitution, and migrants are exploited. People from all walks of life are trafficked every day, and the United States is committed to remaining a leader in the global movement to end this abhorrent practice. My Administration has made addressing human trafficking issues in supply chains a priority. Earlier this year, the White House brought together private sector and non-governmental organizations to discuss ways to prevent and eliminate trafficking-related activities in Federal contracts and in private sector supply chains. Our National Convening on Trafficking and Child Welfare helped promote partnership and establish coordinated action plans to end human trafficking. Additionally, my Interagency Task Force to Monitor and Combat Trafficking in Persons has proposed a robust set of initiatives. Our anti-trafficking efforts are supported by a newly established Federal Office on Trafficking in Persons, under the Department of Health and Human Services, which helps ensure trafficking victims can access the services they need.

As we work to end human trafficking here in the United States, we will continue to lead the effort to root it out around the world. Our intelligence teams have devoted more resources to identifying trafficking networks, law enforcement officers have been working to dismantle those networks, and prosecutors have striven to punish traffickers. We have also enhanced our domestic protections so foreign-born workers better understand their rights. Additionally, my Administration has been working closely with technology companies and law enforcement to better utilize technology to combat human trafficking. And our Nation will continue promoting development and economic growth across the globe to address the underlying conditions that enable human trafficking in the first place.

All nations have a part to play in keeping our world safe for all people—regardless of age, background, or belief. During National Slavery and Human Trafficking Prevention Month, let us recognize the victims of trafficking, and let us resolve to build a future in which its perpetrators are brought to justice and no people are denied their inherent human rights of freedom and dignity.

NOW, THEREFORE, I, BARACK OBAMA, President of the United States of America, by virtue of the authority vested in me by the Constitution and the laws of the United States, do hereby proclaim January 2016 as National Slavery and Human Trafficking Prevention Month, culminating in the annual celebration of National Freedom Day on February 1. I call upon businesses, national and community organizations, families, and all Americans to recognize the vital role we can play in ending all forms of slavery and to observe this month with appropriate programs and activities.

IN WITNESS WHEREOF, I have hereunto set my hand this thirty-first day of December, in the year of our Lord two thousand fifteen, and of the Independence of the United States of America the two hundred and fortieth.

[FR Doc. 2016-00116

Filed 1-5-16; 11:15 am]

Billing code 3295-F6-P